FEDERAL COMMUNICATIONS COMMISSION

[ET Docket No. 20-36; Report No. 3178; FRS 42281]

Petition for Reconsideration of Action in Rulemaking Proceeding

AGENCY: Federal Communications Commission.

ACTION: Petition for Reconsideration; correction.

SUMMARY: The Federal Communications Commission (Commission) published a document in the Federal Register of July 23, 2021 (86 FR 38969), regarding a Petition for Reconsideration filed in the Commission's rulemaking proceeding. In this document, the Commission corrects the dates for replies to an opposition.

DATES: Oppositions to the Petitions must be filed on or before August 9, 2021. Replies to an opposition must be filed on or before August 19, 2021.

ADDRESSES: Federal Communications Commission, 45 L Street NE, Washington, DC 20554.

FOR FURTHER INFORMATION CONTACT: Hugh VanTuyl, Office of Engineering and Technology, (202) 418-7506 or Hugh.VanTuyl@fcc.gov.

SUPPLEMENTARY INFORMATION: In FR Doc. 21-15641, appearing on page 38969 in the Federal Register on July 23, 2021, the following correction is made:

Dates: [Corrected]

On page 38969, in the third column, the dates are corrected to read “Oppositions to the Petitions must be filed on or before August 9, 2021. Replies to an opposition must be filed on or before August 19, 2021.”

Dated: August 4, 2021.
Federal Communications Commission.
Marlene Dortch,
Secretary.

[FR Doc. 2021-17282 Filed 8-12-21; 8:45 am]

BILLING CODE 6712-01-P